GENERAL SERVICES ADMINISTRATION

[OMB Control No. 3090-0080]

General Services Administration Acquisition Regulation; Information Collection; Contract Financing

AGENCY: Office of the Chief Acquisition Officer, GSA.

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding contract financing. A request for public comments was published at 69 FR 62898, October 28, 2004. No comments were received.

Public comments are particularly invited on: Whether this collection of information is necessary and whether it will have practical utility; whether our estimate of the public burden of this collection of information is accurate, and based on valid assumptions and methodology; ways to enhance the quality, utility, and clarity of the information to be collected.

DATES: Submit comments on or before: May 18, 2005.

FOR FURTHER INFORMATION CONTACT: Jerry Olson, Contract Policy Division, at telephone (202) 501-3221 or via e-mail to jerry.olson@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB No. 3090-0080, Contract Financing, in all correspondence.

SUPPLEMENTARY INFORMATION:

A. Purpose

GSAR clause 552.232-72 requires building services contractors to submit a release of claims before final payment is made.

B. Annual Reporting Burden

Respondents: 2000

Responses Per Respondent: 1

Hours Per Response: .1

Total Burden Hours: 200

Obtaining Copies of Proposals: Requesters may obtain a copy of the information collection documents from the General Services Administration, Regulatory Secretariat (VIR), 1800 F Street, NW., Room 4035, Washington, DC 20405, telephone (202) 208-7312. Please cite OMB Control No. 3090-0080, Contract Financing, in all correspondence.

Dated: April 12, 2005.
Julia Wise,
Director, Contract Policy Division.

[FR Doc. 05-7691 Filed 4-15-05; 8:45 am]

BILLING CODE 6820-61-S